DEPARTMENT OF THE TREASURY

Submission for OMB Review; Comment Request

AGENCY: Department of the Treasury

ACTION: Notice.

The Department of the Treasury will submit the following information collection request to the Office of Management and Budget (OMB) for review and clearance in accordance with the Paperwork Reduction Act of 1995, Public Law 104-13, on or after the date of publication of this notice.

DATES: Comments should be received on or before October 30, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by emailing PRA@treasury.gov or viewing the entire information collection request at www.reginfo.gov.

Departmental Offices, General Law, Ethics and Regulation (GLER)

OMB Number: 1505-0204.

Type of Review: Revision of a currently approved collection.

Title: Prohibition on Funding of Unlawful Internet Gambling.

Abstract: The Unlawful Internet Gambling Enforcement Act requires the Treasury and the Federal Reserve Board (the “Agencies”) to prescribe regulations requiring designated payment systems and all participants to identify and block unlawful Internet gambling transactions through the establishment of reasonably designated policies and procedures. The Agencies have published a regulation that requires designated payment systems and all participants to establish and implement written policies and procedures.

Affected Public: Private Sector: Businesses or other for-profits, Not-for-profit institutions.

Estimated Burden Hours: 440,400.

Dated: September 25, 2015.
Dawn D. Wolfgang,
Treasury PRA Clearance Officer.

[FR Doc. 2015-24744 Filed 9-29-15; 8:45 am]

BILLING CODE 4810-25-P